OFFICE OF PERSONNEL MANAGEMENT

Notice of Submission for Approval: Information Collection 3206-0106; Interview Survey Form, INV 10

AGENCY: U.S. Office of Personnel Management.

ACTION: 30-Day Notice and request for comments.

SUMMARY: Federal Investigative Services (FIS), U.S. Office of Personnel Management (OPM) is notifying the general public and other Federal agencies that OPM is seeking Office of Management and Budget (OMB) approval of a revised information collection control number 3206-0106, Interview Survey Form, INV 10. As required by 44 U.S.C. 3507, OPM is providing an additional 30 days for public comments. OPM previously solicited comments for this collection, with a 60-day public comment period, at 80 FR 34936 (June 18, 2015).

DATES: Comments are encouraged and will be accepted until September 30, 2015. This process is conducted in accordance with 5 CFR 1320.10.

ADDRESSES: Interested persons are invited to submit written comments on the proposed information collection to the Office of Information and Regulatory Affairs, Office of Management Budget, 725 17th Street NW., Washington, DC 20503, Attention: Desk Officer for the Office of Personnel Management or by electronic mail to oira_submission@omb.eop.gov or faxed to (202) 395-6974.

FOR FURTHER INFORMATION CONTACT: A copy of this information collection, with applicable supporting documentation, may be obtained by contacting Federal Investigative Services, U.S. Office of Personnel Management, 1900 E Street NW., Washington, DC 20415, Attention: Donna McLeod or by electronic mail at FISFormsComments@opm.gov.

SUPPLEMENTARY INFORMATION: This notice announces that OPM has submitted to OMB a request for review and clearance of a revised information collection, control number 3206-0106, Interview Survey Form, INV 10. The public has an additional 30-day opportunity to comment. The Interview Survey Form, INV 10 is mailed by OPM, to a random sampling of record and personal sources contacted during background investigations when investigators have performed fieldwork. The INV 10 is used as a quality control instrument designed to ensure the accuracy and integrity of the investigative product. The form queries the recipient about the investigative procedure exhibited by the investigator, the investigator's professionalism, and the information discussed and reported. In addition to the preformatted response options, OPM invites the recipients to respond with any other relevant comments or suggestions.

The 60-day Federal Register Notice was published on June 18, 2015 (80 FR 34936). No comments were received. In addition to the revisions described in the 60-day notice, OPM proposes to make additional corrections to the accompanying Privacy Act notice.

Analysis

Agency: Federal Investigative Services, U.S. Office of Personnel Management.

Title: Interview Survey Form, INV 10.

OMB Number: 3206-0106.

Affected Public: A random sampling of record and personal sources contacted during background investigations when investigators have performed fieldwork.

Number of Respondents: 61,973.

Estimated Time Per Respondent: 6 minutes.

Total Burden Hours: 6,197.

U.S. Office of Personnel Management.
Beth Cobert,
Acting Director.

[FR Doc. 2015-21608 Filed 8-28-15; 8:45 am]

BILLING CODE P